DEPARTMENT OF ENERGY

Federal Energy Regulatory Commission

[Docket No. AD10-2-000]

Guidance on Simultaneous Transmission Import Limit Studies; Notice of Technical Conference

November 25, 2009.

Take notice that Commission staff will convene a technical conference in the above-referenced proceeding on Wednesday, December 16, 2009 at 9 a.m. (Eastern Standard Time) in the Commission Meeting Room at the Commission's Washington, DC headquarters, 888 First Street, NE., Washington, DC 20426.

On November 19, 2009, in Carolina Power & Light Company, 129 FERC ¶ 61,152 (2009) (November 19 Order), the Commission directed Commission staff to convene a technical conference to provide guidance for performing Simultaneous Transmission Import Limit (SIL) studies. As described in the November 19 Order, among other things, the topics to be discussed at the technical conference may include development of seasonal benchmark cases, completeness of SIL study support data files (monitor, contingency, and subsystem files), scaling methodologies, identification of energy transfer limits, transfer distribution factors, OASIS practices, methods to identify available uncommitted generation, application of net area interchange, and alternative methods to adjust net area interchange for a study area with two non-contiguous first-tier areas.

The December 16, 2009 technical conference will focus on how a SIL study should be conducted and is intended to provide guidance to the industry so that prospective SIL studies will produce more consistent results.

The technical conference is open to all interested persons. Interested persons planning on attending the technical conference are strongly encouraged to submit in writing any questions that they would like addressed during the technical conference. Questions should be submitted to both alfred.corbett@ferc.gov and david.hunger@ferc.gov by Monday, December 7, 2009 and include “AD10-2-000 Questions” in the subject line.

Any person planning to attend the technical conference is strongly encouraged to register by close of business on Monday, December 7, 2009. Registration may be submitted either online at https://www.ferc.gov/whats-new/registration/tech-conf-12-16-09-form.asp or by faxing a copy of the form (found at the referenced online link) to 202-208-0353.

For further information, please contact Alfred Corbett at (202) 502-8454 or e-mail alfred.corbett@ferc.gov.

A free Web cast of the technical conference will be available. Registration to view the Web cast is not required. Web cast viewers will not be permitted to participate during the technical conference. Anyone with Internet access interested in viewing this conference can do so by navigating to http://www.ferc.gov's Calendar of Events and locating the appropriate event in the Calendar. The events will contain a link to the applicable Web cast option. The Capitol Connection provides technical support for the Web casts and offers the option of listening to the conferences via phone-bridge for a fee. If you have any questions, visit http://www.CapitolConnection.org or call 703-993-3100.

FERC conferences are accessible under section 508 of the Rehabilitation Act of 1973. For accessibility accommodations please send an e-mail to accessibility@ferc.gov or call toll free (866) 208-3372 (voice) or (202) 502-8659 (TTY), or send a fax to (202) 208-2106 with the required accommodations.

Kimberly D. Bose,
Secretary.

[FR Doc. E9-28916 Filed 12-3-09; 8:45 am]

BILLING CODE 6717-01-P